DEPARTMENT OF LABOR

Employee Benefits Security Administration

203rd Meeting of the Advisory Council on Employee Welfare and Pension Benefit Plans; Notice of Teleconference Meeting

Pursuant to the authority contained in Section 512 of the Employee Retirement Income Security Act of 1974 (ERISA), 29 U.S.C. 1142, the 203rd open meeting of the Advisory Council on Employee Welfare and Pension Benefit Plans (also known as the ERISA Advisory Council) will be held via a teleconference on Friday, November 13, 2020.

The meeting will begin at 10 a.m. and end at approximately 3:30 p.m. with a one-hour break for lunch. The purpose of the open meeting is for the members of the ERISA Advisory Council to discuss potential recommendations for the Secretary of Labor on the issues of: (1) Examining Top Hat Plan Participation and Reporting, and (2) Considerations for Recognizing and Addressing Participants with Diminished Capacity. Descriptions of these topics are available near the bottom of the ERISA Advisory Council's web page at https://www.dol.gov/agencies/ebsa/about-ebsa/about-us/erisa-advisory-council.

Instructions for public access to this teleconference meeting will be posted on the ERISA Advisory Council's web page at https://www.dol.gov/agencies/ebsa/about-ebsa/about-us/erisa-advisory-council prior to the meeting.

Organizations or members of the public wishing to submit a written statement may do so on or before Friday, November 6, 2020, to Christine Donahue, Executive Secretary, ERISA Advisory Council. Statements should be transmitted electronically as an email attachment in text or pdf format to donahue.christine@dol.gov. Statements transmitted electronically that are included in the body of the email will not be accepted. Relevant statements received on or before Friday, November 6, 2020, will be included in the record of the meeting and made available through the Employee Benefits Security Administration Public Disclosure Room. No deletions, modifications, or redactions will be made to the statements received as they are public records.

Individuals or representatives of organizations wishing to address the ERISA Advisory Council should forward their requests to the Executive Secretary no later than Friday, November 6, 2020, via email to donahue.christine@dol.gov or by telephoning (202) 693-8641. Oral presentations will be limited to ten minutes, time permitting, but an extended statement may be submitted for the record.

Individuals who need special accommodations should contact the Executive Secretary no later than Friday, November 6, 2020, via email to donahue.christine@dol.gov or by telephoning (202) 693-8641.

For more information about the meeting, contact the Executive Secretary via email to donahue.christine@dol.gov or by telephoning (202) 693-8641.

Signed at Washington, DC, this 7th day of October, 2020.
Jeanne Klinefelter Wilson,
Acting Assistant Secretary, Employee Benefits Security Administration.

[FR Doc. 2020-22766 Filed 10-14-20; 8:45 am]

BILLING CODE 4510-29-P